DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 24, 2010. Address written comments to Statutory Import Programs Staff, Room 3720, U.S. Department of Commerce, Washington, D.C. 20230. Applications may be examined between 8:30 A.M. and 5:00 P.M. at the U.S. Department of Commerce in Room 3720.

Docket Number: 10-008. Applicant: Colorado State University, Department of Biomedical Sciences 200 Westlake St., Campus Delivery 1617, Fort Collins, CO 80523. Instrument: Electron Microscope. Manufacturer: JEOL, Ltd., Japan. Intended Use: This instrument will be used for the tomographic analysis of viruses. Justification for Duty-Free Entry: There are no instruments of the same general category as this instrument being produced in the United States. Application accepted by Commissioner of Customs: April 15, 2010.

Docket Number: 10-009. Applicant: University of Oregon, Purchasing & Contracting Services, 720 E. 13th Ave., Suite 302, Eugene, OR 97401-3753. Instrument: Electron Microscope Manufacturer: FEI Company, Czech Republic. Intended Use: This instrument will be used to study the size, shape and elemental compositions of nanoparticles to determine the effect on biological interactions at the nano scale. Justification for Duty-Free Entry: There are no instruments of the same general category as this instrument being produced in the United States. Application accepted by Commissioner of Customs: April 15, 2010.

Dated: April 28, 2010.
Gregory W. Campbell,
Acting Director, IA Subsidies Enforcement Office.

[FR Doc. 2010-10487 Filed 5-3-10; 8:45 am]

BILLING CODE 3510-DS-S